ENVIRONMENTAL PROTECTION AGENCY

40 CFR Part 131

[EPA-HQ-OW-2023-0222; FRL 10760-01-OW]

RIN 2040-AG30

Water Quality Standards To Protect Aquatic Life in the Delaware River

Correction

In proposed rule document 2023-27758, appearing on pages 88315-88336 in the issue of Thursday, December 21, 2023, make the following correction:

On page 88326, in the table titled “Table 7: Alternative 1: Dissolved Oxygen Criteria Expressed as Concentration (mg/L)”, the table is corrected to appear as set forth below:

Table 7—Alternative 1: Dissolved Oxygen Criteria Expressed as Concentration
[mg/L]
Season | Water temperature (°C) | Magnitude (mg/L) | Duration | Exceedance frequency
Spawning and Larval Development (March 1-June 30) | * 23.3 (14.7) | * 5.6 (6.7) | Daily Average | 10% (12 Days Cumulative).
Juvenile Development (July 1-October 31) | + N/A | 5.4 | Daily Average | 10% (12 Days Cumulative).
| + N/A | 6.1 | Daily Average | 50% (61 Days Cumulative).
Overwintering (November 1-February 28/29) | * 12.4 (5.6) | * 7.0 (8.3) | Daily Average | 10% (12 Days Cumulative).
* The 90th percentile of seasonal water temperature and corresponding criterion is used for the main estimate, while the average water temperature and corresponding criterion is shown in parentheses.
+ Water temperature is not applicable during the Juvenile Development season because the criteria magnitudes are derived from the EPA's Atlantic Sturgeon cohort model, described in section IV.C.1 of this preamble.

[FR Doc. C1-2023-27758 Filed 1-5-24; 8:45 am]

BILLING CODE 0099-10-P